DEPARTMENT OF HEALTH AND HUMAN SERVICES

Health Resources and Services Administration

Agency Information Collection Activities: Proposed Collection Comment Request

In compliance with the requirement for opportunity for public comment on proposed data collection projects (section 3506(c)(2)(A) of Title 44, United States Code, as amended by the Paperwork Reduction Act of 1995, Public Law 104-13, the Health Resources and Services Administration (HRSA) will publish periodic summaries of proposed projects being developed for submission to the Office of Management and Budget (OMB) under the Paperwork Reduction Act of 1995. To request more information on the proposed project or to obtain a copy of the data collection plans, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project

Outcome Study of National Health Service Corps (NHSC) Chiropractor and Pharmacist Loan Repayment Demonstration Project—New

In 2002, Congress authorized a demonstration project to provide for the participation of chiropractors and pharmacists in the NHSC Loan Repayment Program. This study provides for an evaluation of the demonstration project to determine (1) the manner in which the demonstration project has affected access to primary care services, patient satisfaction, quality of care, and health care services provided for traditionally underserved populations; (2) how the participation of chiropractors and pharmacists in the Loan Repayment Program might affect the designation of health professional shortage areas; and (3) whether adding chiropractors and pharmacists as permanent members of the NHSC would be feasible and would enhance the effectiveness of the NHSC.

The burden estimate is as follows:

Respondents | Number of respondents | Number of responses/respondent | Average burden per response (in hours) | Total burden (in hours)
Clinic Users | 3,000 | 1 | .25 | 750
Chiropractors & Pharmacists | 40 | 1 | .50 | 20
NHSC Site Administrative Personnel | 140 | 1 | .50 | 70
Total | 3,180 |  |  | 840

Send comments to Susan G. Queen, PhD., HRSA Reports Clearance Officer, Room 10-33 Parklawn Building, 5600 Fishers Lane, Rockville, Maryland 20857. Written comments should be received within 60 days of this notice.

Dated: September 16, 2005.
Tina M. Cheatham,
Director, Division of Policy Review and Coordination.

[FR Doc. 05-19079 Filed 9-23-05; 8:45 am]

BILLING CODE 4165-15-P